DEPARTMENT OF HOUSING AND URBAN DEVELOPMENT

[Docket No. FR-5828-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland TX 78236-9853; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL. 33021; (443) 223-4639 NASA: Mr. Frank T. Bellinger, Facilities Engineering Division, National Aeronautics & Space Administration, Code JX, Washington, DC 20546, (202) 358-1124; NAVY: Mr. Steve Matteo, Department of the Navy, Asset Management; Division, Naval Facilities Engineering Command, Washington Navy Yard, 1330 Patterson Ave. SW., Suite 1000, Washington, DC 20374; (202) 685-9426 (These are not toll-free numbers).

Dated: September 17, 2015.
Brian P. Fitzmaurice,
Director, Division of Community Assistance, Office of Special Needs Assistance Programs.

TITLE V, FEDERAL SURPLUS PROPERTY PROGRAM Federal Register REPORT FOR 09/25/2015

Suitable/Available Properties

Building

Arkansas

Dierks Lake Project Office

246 Jefferson Ridge Road

Sevier County AR

Landholding Agency: COE

Property Number: 31201530003

Status: Unutilized

Comments: 30+ yrs. old; 600 sq. ft.; restroom; contact COE for more information.

DeQueen Project Office—Oak G

706 DeQueen Lake Road

Sevier County AR

Landholding Agency: COE

Property Number: 31201530004

Status: Unutilized

Comments: 30+ yrs. old; 600 sq. ft.; restroom; contact COE for more information.

District of Columbia

Flammable Liquid Storage Bldg.

3501 New York Avenue

Washington DC 20002

Landholding Agency: Agriculture

Property Number: 15201530023

Status: Excess

Directions: #NA25 (1230B00025)? RPUID: 03.51655

Comments: 44+ yrs. old; 220 sq. ft.; 18+ mos. vacant; floors need replaced; hazardous material (herbicides, insecticide & fungicide) storage; remediation needed; contact Agriculture for more information.

Florida

2 Buildings

Fairway Drive

Niceville FL 32578

Landholding Agency: Air Force

Property Number: 18201530024

Status: Unutilized

Directions: 1542 (206 SQ. FT.; restroom/storage); 1543 (170 SQ. FT.; restroom)

Comments: 50+ yrs.-old; deteriorated; repairs needed; contact Air Force for more information on a specific property.

Yellow Water

Normandy Blvd.

NAS Jacksonville FL

Landholding Agency: Navy

Property Number: 77201530026

Status: Unutilized

Comments: 102 acres; recreational; contact Navy for more information.

Michigan

Reinhold

Red Water Dr.

Luzerne MI 48636

Landholding Agency: Agriculture

Property Number: 15201530011

Status: Unutilized

Comments: off-site removal only; no future agency need; 1,560 sq. ft.; seasonal residence; removal diff. due to type/size; significant renvo. needed; contact Agriculture for more information.

South Carolina

Witherbee Dwelling D (604)

2367 Witherbee Road

Cordesville SC 29434

Landholding Agency: Agriculture

Property Number: 15201530015

Status: Excess

Directions: RPUID: #2120.006791

Comments: off-site removal only; 1,400 sq. ft.; 84+ months vacant; residential; significant renvo. needed; asbestos/mold; a waiting funding for remediation; contact Agriculture for more information.

Witherbee Dwelling E (605)

2355 Witherbee Road

Cordesville SC 29434

Landholding Agency: Agriculture

Property Number: 15201530016

Status: Excess

Directions: RPUID: #2121.006791

Comments: off-site removal only; 1,400 sq. ft.; 84+ months vacant; residential; significant renvo. needed; asbestos/mold; waiting funding for remediation; contact Agriculture for more information.

Witherbee Dwelling B (602)

2397 Witherbee Road

Cordesville SC 29434

Landholding Agency: Agriculture

Property Number: 15201530017

Status: Excess

Directions: RPUID: #2222.006791

Comments: off-site removal only; 1,400 sq. ft.; 84+ months vacant; residential; significant renov. needed; asbestos/mold; waiting funding for remediation contact Agriculture for more information.

Witherbee Dwelling C (603)

2381 Witherbee Road

Cordesville SC 29434

Landholding Agency: Agriculture

Property Number: 15201530018

Status: Excess

Directions: RPUID: #2119.006791

Comments: off-site removal only; 1,455 sq. ft.; 84+ months vacant; residential; significant renov. needed; asbestos/mold; waiting funding for remediation; contact Agriculture for more information.

Texas

3 Buildings

Naval Air Station Corpus Christi

Corpus Christi TX 78419

Landholding Agency: Navy

Property Number: 77201530024

Status: Excess

Directions: Bldg. H56B (900 sq.ft.); Bldg. H-111 (255 sq. ft.); Bldg. H-101 (1,260 sq.ft.)

Comments: 27-62 yrs. old; bathhouse, generator bldg., CPO club; poor conditions; obtain visitor's pass for entry; contact Navy for more information.

Facility H56

Naval Air Station Corpus Christi

Corpus Christi TX 78419

Landholding Agency: Navy

Property Number: 77201530025

Status: Excess

Comments: 76+ yrs. old; swimming pool; poor condition; must obtain visitor's pass; contact Navy for more information.

Virginia

Tract 01-114 Metal Storage She

621 Bowman's Mill Road

Middletown VA 22645

Landholding Agency: Interior

Property Number: 61201530022

Status: Excess

Comments: off-site removal; 30-40 yrs. old; 600 sq. ft.; temp. storage; 144 mos. vacant; fair condition; prior approval needed to gain access; contact DOI for more information.

Unsuitable Properties

Building

California

2 Buildings

North Flightline Road; Edwards AFB

Edwards AFB CA 93524

Landholding Agency: Air Force

Property Number: 18201530028

Status: Unutilized

Directions: 1910; 1863

Comments: public access denied and no alternative method to gain access without compromising national security.

Reasons: Secured Area

Colorado

Q-0489-N ESD

Seasonal Residence 00000489

1057 CR 84 West

Allenspark CO 80510

Landholding Agency: Interior

Property Number: 61201530023

Status: Excess

Comments: documented deficiencies: no foundation to support bldg.; rodent infestation (high potential for Hanta virus); clear threat to physical safety

Reasons: Extensive deterioration

B-0060-N-ESD

Ranger Office- Long Peak Campground

1057 CR 84 West

Allenspark CO 80510

Landholding Agency: Interior

Property Number: 61201530024

Status: Excess

Comments: documented deficiencies: no foundation to support bldg.; rodent infestation (high potential for Hanta virus); clear threat to physical safety.

Reasons: Extensive deterioration

Florida

Camp Ocala Dormitory, #702

18533 NFS 535

Altoona FL 32702

Landholding Agency: Agriculture

Property Number: 15201530028

Status: Excess

Comments: foundation is not structurally sound due to stair step cracking. Flammable/Explosive materials located on adjacent property, Ocala Fire Control Center.

Reasons: Within airport runway clear zone; Other—Located 2,000 ft. of helicopter pad; Within 2000 ft. of flammable or explosive material; Extensive deterioration

Camp Ocala Dormitory #701

18533 NFS 535

Altoona FL 32702

Landholding Agency: Agriculture

Property Number: 15201530029

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #703

18533 NFS 535

Altoona FL 32702

Landholding Agency: Agriculture

Property Number: 15201530030

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #704

18533 NFS 535

Altoona FL 32702

Landholding Agency: Agriculture

Property Number: 15201530031

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #705

18533 NFS 535

Altoona FL 32702

Landholding Agency: Agriculture

Property Number: 15201530032

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #706

18533 NFS 535

Altoona FL 32702

Landholding Agency: Agriculture

Property Number: 15201530047

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #707

18533 NFS 535

Altoona FL 32702

Landholding Agency: Agriculture

Property Number: 15201530033

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #708

18533 NFS 535

Altoona FL 32702

Landholding Agency: Agriculture

Property Number: 15201530034

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #709

18533 NFS 535

Altoona FL 32702

Landholding Agency: Agriculture

Property Number: 15201530036

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #710

18533 NFS 535

Altoona FL 32702

Landholding Agency: Agriculture

Property Number: 15201530037

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #711

18533 NFS 535

Altoona FL 32702

Landholding Agency: Agriculture

Property Number: 15201530038

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #712

18533 NFS 535

Altoona FL 32702

Landholding Agency: Agriculture

Property Number: 15201530039

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #713

18533 NFS 535

Altoona FL 32702

Landholding Agency: Agriculture

Property Number: 15201530040

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #714

18533 NFS 535

Altoona FL 32702

Landholding Agency: Agriculture

Property Number: 15201530041

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #715

18533 NFS 535

Altoona FL 32702

Landholding Agency: Agriculture

Property Number: 15201530042

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #716

18533 NFS 535

Altoona FL 32702

Landholding Agency: Agriculture

Property Number: 15201530043

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #717

18533 NFS 535

Altoona FL 32702

Landholding Agency: Agriculture

Property Number: 15201530044

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Dormitory, #718

18533 NFS 535

Altoona FL 32702

Landholding Agency: Agriculture

Property Number: 15201530045

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Camp Ocala Nature Center, #719

18533 NFS 535

Altoona FL 32702

Landholding Agency: Agriculture

Property Number: 15201530046

Status: Excess

Comments: foundation is not structurally sound due to stair step cracking. Flammable/Explosive materials located on adjacent property, Ocala Fire Control Center.

Reasons: Extensive deterioration; Within airport runway clear zone; Other—Located 2,000 ft. of helicopter pad; Within 2000 ft. of flammable or explosive material

Building 1539

Eglin AFB

Eglin AFB FL 32578

Landholding Agency: Air Force

Property Number: 18201530025

Status: Unutilized

Comments: public access denied and no alternative method to gain access without compromising national security.

Reasons: Secured Area

9 Buildings

Kennedy Space Center

Kennedy Space Center FL 32899

Landholding Agency: NASA

Property Number: 71201530003

Status: Unutilized

Directions: 865-Toxic Hazards Lab; 623-Generator Operations Shop; 1055-Locomotive Office Bldg.; 45-Hazardous Stg.; 1056-Locomotive Stg.; 763-C Band Radar 19.17 Bldg.; 127-Reclorination Bldg.; 655-Roads & Grounds Maint.; 625-Base Electric Shop

Comments: public access denied and no alternative method to gain access without compromising national security.

Reasons: Secured Area

3 Buildings

Kennedy Space Center

Kennedy Space Center FL 32899

Landholding Agency: NASA

Property Number: 71201530004

Status: Unutilized

Directions: 77-LH2 Engineering Office Bldg., 904-Operations Support Bldg. A-2; 822-Slidewire Termination Facility

Comments: flammable/explosive mats. are located on? adjacent industrial, commercial, or Federal facility; public access denied and no alternative method to gain access without compromising national security.

Reasons: Secured Area; Within 2000 ft. of flammable or explosive material

329 Temporary Building

TRI-0477 4th Street SE

Kennedy Space Center FL 32899

Landholding Agency: NASA

Property Number: 71201530005

Status: Unutilized

Comments: public access denied and no alternative method to gain access without compromising national security.

Reasons: Secured Area

Georgia

2 Buildings

Robins Air Force Base, Georgia

Robins AFB GA 31098

Landholding Agency: Air Force

Property Number: 18201530029

Status: Unutilized

Directions: Facility 16 & 24

Comments: property located within floodway which has not been correct or contained; public access denied and no alternative method to gain access without compromising national security.

Reasons: Floodway; Secured Area

Facility 14

125 Beale Drive

Robins AFB GA 31098

Landholding Agency: Air Force

Property Number: 18201530030

Status: Underutilized

Comments: property located within floodway which has not been correct or contained; public access denied and no alternative method to gain access without compromising national security.

Reasons: Floodway; Secured Area

Facility 181

580 First Street

Robins AFB GA 31098

Landholding Agency: Air Force

Property Number: 18201530031

Status: Underutilized

Comments: flammable/explosive mat.; property located within floodway which has not been correct or contained; Public access denied and no alternative method to gain access without compromising national security.

Reasons: Secured Area; Within 2000 ft. of flammable or explosive material; Floodway

Facility 20

135 Beale Drive

Robins AFB GA 31098

Landholding Agency: Air Force

Property Number: 18201530032

Status: Unutilized

Comments: property located within floodway which has not been correct or contained; public access denied and no alternative method to gain access without compromising national security.

Reasons: Floodway; Secured Area

Facility 20

135 Beale Drive

Robins AFB GA 31098

Landholding Agency: Air Force

Property Number: 18201530033

Status: Unutilized

Comments: property located within floodway which has not been correct or contained; public access denied and no alternative method to gain access without compromising national security.

Reasons: Floodway; Secured Area

Facility 14

125 Beale Drive

Robins AFB GA 31098

Landholding Agency: Air Force

Property Number: 18201530034

Status: Underutilized

Comments: property located within floodway which has not been correct or contained; public access denied and no alternative method to gain access without compromising national security.

Reasons: Floodway; Secured Area

Idaho

Benton Bunkhouse

4907 East River

Priest River ID 83856

Landholding Agency: Agriculture

Property Number: 15201530008

Status: Excess

Comments: documented deficiencies: roof is severely dilapidated; severe rodent infestation; clear threat to physical safety.

Reasons: Extensive deterioration

Illinois

2 Buildings

Fermi National Accelerator Laboratory

Batavia IL 60510

Landholding Agency: Energy

Property Number: 41201530005

Status: Excess

Directions: 248-E2 Service Building; 249-E3 Service Building

Comments: public access denied and no alternative method to gain access without compromising national security.

Reasons: Secured Area

Iowa

FAA Outer Marker (PPY)

Omaha, NE RWY 17

152nd Street

Crescent IA 51526

Landholding Agency: GSA

Property Number: 54201530004

Status: Surplus

GSA Number: 7-U-IA-0516

Directions: east of 152nd St. in rural Crescent, IA.; landholding Agency: FAA— Disposal Agency: GSA

Comments: property located within floodway which has not been corrected or contained.

Reasons: Floodway

Michigan

Kincaid

Knott Road

Luzerne MI 48636

Landholding Agency: Agriculture

Property Number: 15201530009

Status: Unutilized

Comments: documented deficiencies: structurally unsound; clear threat to physical safety.

Reasons: Extensive deterioration

Burdis Cabin 2

Haskell Drive

Lewiston MI 49756

Landholding Agency: Agriculture

Property Number: 15201530010

Status: Unutilized

Comments: documented deficiencies: Severe structural deterioration; structural walls are rotten; clear threat physical safety.

Reasons: Extensive deterioration

Ladd

West Ausable River Dr.

Luzerne MI 48636

Landholding Agency: Agriculture

Property Number: 15201530012

Status: Unutilized

Comments: documented deficiencies: Significant rotting; structurally unsound; clear threat to physical safety.

Reasons: Extensive deterioration

Burdis Cabin 1

Haskell Dr.

Lewiston MI 49756

Landholding Agency: Agriculture

Property Number: 15201530013

Status: Unutilized

Comments: documented deficiencies: Foundation collapsing; clear threat to physical safety.

Reasons: Extensive deterioration

Nevada

Holbrook Warehouse

0.5 Miles N of Holbrook JCT To

Gardnerville NV 89410

Landholding Agency: Agriculture

Property Number: 15201530014

Status: Unutilized

Directions: Btw. addresses 1380

Comments: inaccessible because it is landlocked and can only be reached by crossing private property and there is no established right of means of entry.

Reasons: Not accessible by road

New Jersey

Building 1909

JBMDL

JBMDL NJ 08641

Landholding Agency: Air Force

Property Number: 18201530023

Status: Unutilized

Comments: public access denied and no alternative method to gain access without compromising national security.

Reasons: Secured Area

New York

3 Buildings

Liberty Island

New York NY 10004

Landholding Agency: Interior

Property Number: 61201530020

Status: Excess

Directions: Quarters #42, 43, 44

Comments: located on off-shore Liberty Island; located in floodway which has not been corrected or contained; suffered extensive damage due to Sandy; shell of house remains; threat to physical safety.

Reasons: Floodway; Isolated area; Extensive deterioration

Ohio

Restroom Bldg. MOSQ-12628

2961 Warren-Meadville Road

Cortland OH 44410

Landholding Agency: COE

Property Number: 31201530002

Status: Underutilized

Comments: structurally unsound; vegetation growing on & within property.

Reasons: Extensive deterioration

Green Lab Research Facility,

Bldg. #336

21000 Brookpark Road

Brook Park OH 44135

Landholding Agency: NASA

Property Number: 71201530006

Status: Unutilized

Comments: materials are located on adjacent property, GRC Lewis Field and GRC haz. waste fac. (bldg. 215)Public access denied and no alternative method to gain access without compromising national security.

Reasons: Within 2000 ft. of flammable or explosive material; Secured Area

Oregon

W4007 Applegate Lookout Guard

Freemont-Winema Nat'l Forest

Chiloquin OR 97624

Landholding Agency: Agriculture

Property Number: 15201530024

Status: Excess

Directions: (1334.005651) 13971 00

Comments: documented deficiencies: Structure collapsing; unsafe; clear threat to physical safety.

Reasons: Extensive deterioration

South Carolina

Storage Bldg. #655 for Dwelling 605

2355 Witherbee Road

Cordesville SC 29434

Landholding Agency: Agriculture

Property Number: 15201530019

Status: Excess

Directions: RPUID: #4392.006791

Comments: structure only; completely gutted; surrounded by vegetation; vegetation growing on & within property.

Reasons: Extensive deterioration

Storage Bldg. #654 for Dwelling 604

2367 Witherbee Road

Cordesville SC 29434

Landholding Agency: Agriculture

Property Number: 15201530020

Status: Excess

Directions: RPUID: #4390.006791

Comments: structure only; completely gutted; surrounded by vegetation; vegetation growing on & within property.

Reasons: Extensive deterioration

Storage Bldg. 653 for Dwelling 603

2381 Witherbee Road

Cordesville SC 29434

Landholding Agency: Agriculture

Property Number: 15201530021

Status: Excess

Directions: RPUID: #4388.006791

Comments: structure only; completely gutted; surrounded by vegetation; vegetation growing on & within property.

Reasons: Extensive deterioration

Storage Bldg. #652 for Dwelling 602

2397 Witherbee Road

Cordesville SC 29434

Landholding Agency: Agriculture

Property Number: 15201530022

Status: Excess

Directions: RPUID: #4386.00691

Comments: structure only; completely gutted; surrounded by vegetation.

Reasons: Extensive deterioration

Texas

FNWZ8004

726 Third Street

Dyess AFB TX 79607

Landholding Agency: Air Force

Property Number: 18201530026

Status: Unutilized

Comments: public access denied and no alternative method to gain access without compromising national security.

Reasons: Secured Area

Utah

Building 1475; Munitions Storage

7750 Madrona Ln., Hill AFB

Ogden UT 54056

Landholding Agency: Air Force

Property Number: 18201530027

Status: Unutilized

Comments: public access denied and no alternative method to gain access without compromising national security.

Reasons: Secured Area

Virginia

12 Buildings

JBLE-Langley

JBLE-Langley VA 23665

Landholding Agency: Air Force

Property Number: 18201530035

Status: Underutilized

Directions: 141 (467777); 142 (467778); 143 (467779); 147 (467783); 148 (467784); 162 (467788); 355 (466533); 720 (666652); 1329 (467481); 1330 (467482); 1331 (467483); 1332 (467984)

Comments: properties located w/in floodway which has not been corrected or contained; public access denied and no alternative method to gain access w/out compromising national security.

Reasons: Secured Area; Floodway

Tract 01-114 Livestock Shed

621 Bowman's Mill Road

Middletown VA 22645

Landholding Agency: Interior

Property Number: 61201530021

Status: Excess

Comments: structurally unstable; moving will result in collapsing; clear threat to physical safety.

Reasons: Extensive deterioration

2 Buildings

17320 Dahlgren Rd.

Dahlgren VA

Landholding Agency: Navy

Property Number: 77201530022

Status: Excess

Directions: Bldg. 290TNK & 291TKN, PW Elevated Storage Tanks

Comments: public access denied and no alternative method to gain access without compromising national security.

Reasons: Secured Area

2 Buildings

Gilbert Street—Naval Station Norfolk

Norfolk VA 23511

Landholding Agency: Navy

Property Number: 77201530023

Status: Excess

Directions: Buildings CEP-41 & CEP-44

Comments: public access denied and no alternative method to gain access without compromising national security.

Reasons: Secured Area

Wyoming

2340

7800 Central Ave F.E.

Warren AFB WY 82005

Landholding Agency: Air Force

Property Number: 18201530036

Status: Unutilized

Comments: public access denied and no alternative method to gain access without compromising national security.

Reasons: Secured Area

2 Buildings

Warren AFB

Warren AFB WY 82005

Landholding Agency: Air Force

Property Number: 18201530038

Status: Unutilized

Directions: Property 155 & 4330

Comments: public access denied and no alternative method to gain access without compromising national security.

Reasons: Extensive deterioration

Land

Arizona

Treaccre Surplus Land 3.82 Acre

Frank Lloyd Wright Blvd. & Pima S. Frontage R

Scottsdale AZ

Landholding Agency: GSA

Property Number: 54201530005

Status: Surplus

GSA Number: 9-I-AZ-1712AA

Directions: Disposal Agency: GSA? Land Holding Agency: Interior

Comments: property is inaccessible because it is landlocked and can only be reached by crossing private property and there is no established right or means of entry.

Reasons: Not accessible by road

California

Naval Weapons Station Seal Bea

Bolsa Chica Road & Edinger Ave.

Seal Beach CA

Landholding Agency: Navy

Property Number: 77201530021

Status: Unutilized

Comments: land surrounding site is encumbered by explosive/flammable materials.

Reasons: Within airport runway clear zone

[FR Doc. 2015-24200 Filed 9-24-15; 8:45 am]

BILLING CODE 4210-67-P